DEPARTMENT OF THE INTERIOR

National Park Service

[OMB Control Number 1024-0245]

Information Collection Sent to the Office of Management and Budget (OMB) for Approval; National Park Police Personal History Statement

AGENCY: National Park Service, Interior.

ACTION: Notice; request for comments.

SUMMARY: We (National Park Service) have sent an Information Collection Request (ICR) to OMB for review and approval. We summarize the ICR below and describe the nature of the collection and the estimated burden and cost. This ICR is scheduled to expire on November 30, 2010. We may not conduct or sponsor and a person is not required to respond to a collection of information unless it displays a currently valid OMB control number. However, under OMB regulations, we may continue to conduct or sponsor this information collection while it is pending at OMB.

DATES: You must submit comments on or before November 26, 2010.

ADDRESSES: Send your comments and suggestions on this information collection to the Desk Officer for the Department of the Interior, Office of Information and Regulatory Affairs, OMB, at (202) 395-5806 (fax) or OIRA_DOCKET@OMB.eop.gov (e-mail). Please provide a copy of your comments to Lieutenant Steven L. Booker, Assistant Commander, Human Resources Office, United States Park Police, 1100 Ohio Drive, SW., Washington, DC 20024 (mail); via fax at (202) 619-7090; or via e-mail at Steve_Booker@nps.gov.

FOR FURTHER INFORMATION CONTACT: To request additional information about this ICR, contact Lieutenant Booker by mail, fax, or e-mail (see ADDRESSES) or by telephone at (202) 619-7388.

SUPPLEMENTARY INFORMATION: OMB Control Number: 1024-0245.

Title: United States Park Police Personal History Statement.

Form Number: USPP Form 1.

Type of Request: Revision of a current approved collection.

Description of Respondents: Individuals seeking employment as a United States Park Police Officer.

Respondent's Obligation: Required to obtain a benefit.

Frequency of Collection: Once per respondent.

Estimated Number of Respondents: 1,000.

Estimated Number of Responses: 1,000.

Completion Time per Response: 8 hours.

Estimated Annual Burden Hours: 8,000.

Estimated Annual Nonhour Burden Cost: $10,900 associated with printing costs and notarization fees.

Abstract: The United States Park Police (USPP) have jurisdiction in all National Park Service areas and certain other Federal and State lands. The USPP are highly trained and professional police officers who prevent and detect criminal activity; conduct investigations; apprehend individuals suspected of committing offenses against Federal, State and local laws; provide protection to the President of the United States and visiting dignitaries; and provide protective services to some of the most recognizable monuments and memorials in the world.

Applicants for USPP officer positions must complete and pass a competitive written examination, an oral interview, a medical examination and psychological evaluation, and a battery of physical fitness and agility tests. As part of this application process, we use USPP Form 1 (United States Park Police Personal History Statement) to collect detailed personal history information from applicants. We use this information as a basis for an investigation to determine suitable applicants for USPP positions.

Comments: On May 17, 2010, we published in the Federal Register (75 FR 27574) a notice of our intent to request that OMB renew this information collection. In that notice, we solicited comments for 60 days, ending on July 16, 2010. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: October 22, 2010.
Pocahontas Simmons,
NPS, Information Collection Clearance Officer.

[FR Doc. 2010-27213 Filed 10-26-10; 8:45 am]

BILLING CODE 4312-53-P